SMALL BUSINESS ADMINISTRATION

C3 Capital Partners III, L.P.; License No. 07/07-0118; Notice Seeking Exemption Under Section 312 of the Small Business Investment Act, Conflicts of Interest

Notice is hereby given that C3 Capital Partners III, L.P., 1511 Baltimore, Suite 500, Kansas City, KS 64108, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). C3 Capital Partners III, L.P., proposes to provide debt financing issued by Green Compass Environmental Solutions, LLC, 2775 N. Ventura Road, Suite 209, Oxnard, CA 93036.

The financing is brought within the purview of § 107.730(a)(1) of the Regulations because C3 Capital Partners II, L.P. an Associate of C3 Capital Partners III, L.P., owns more than ten percent of Green Compass Environmental Solutions, LLC; therefore Green Compass Environmental Solutions, LLC is considered an Associate of C3 Capital Partners II, L.P., as defined in Sec. 105.50 of the regulations. In addition, C3 Capital Partners III, L.P. and C3 Capital Partners II, L.P. are Associates as defined under 13 CFR 107.50.

Notice is hereby given that any interested person may submit written comments on this transaction within fifteen days of the date of this publication to the Associate Administrator, Office of Investment and Innovation, U.S. Small Business Administration, 409 Third Street SW., Washington, DC 20416.

Dated: July 19, 2017.
A. Joseph Shepard,
Associate Administrator for Office of Investment and Innovation.

[FR Doc. 2017-16008 Filed 7-28-17; 8:45 am]

BILLING CODE P